DEPARTMENT OF LABOR

Employment and Training Administration

[TA-W-57,040]

Higgins Seaming; Rainsville, AL; Notice of Termination of Investigation

Pursuant to section 221 of the Trade Act of 1974, an investigation was initiated on April 25, 2005 in response to petition filed on behalf of workers at Higgins Seaming, Rainsville, Alabama.

The petition regarding the investigation has been deemed invalid. Consequently, the investigation has been terminated.

Signed in Washington, DC, this 1st day of June, 2005.
Elliott S. Kushner,
Certifying Officer, Division of Trade Adjustment Assistance.

[FR Doc. E5-3170 Filed 6-17-05; 8:45 am]

BILLING CODE 4510-30-P